DEPARTMENT OF LABOR

Office of the Secretary

Submission for OMB Review; Comment Request

November 8, 2000.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation for BLS, ETA, PWBA, and OASAM contact Karin Kurz ((202) 693-4127 or by E-mail to Kurz-Karin@dol.gov). To obtain documentation for ESA, MSHA, OSHA, and VETS contact Darrin King ((202) 693-4129 or by E-Mail to King-Darrin@dol.gov).

Comments should be sent to Office of Information and Regulatory Affairs, Attn: OMB Desk Officer for BLS, DM, ESA, ETA, MSHA, OSHA, PWBA, or VETS, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Type of Review: Extension of a currently approved collection.

Agency: Occupational Safety and Health Administration (OSHA).

Title: Recording and Reporting Occupational Injuries and Illnesses.

OMB Number: 1218-0176.

Affected Public: Business or other for-profit; Not-for-profit institutions; farms; State, Local, or Tribal Government.

Frequency: On occasion.

Number of Respondents: 1,395,516.

Number of Annual Responses: 5,067,726.

Estimated Time Per Response: 26 minutes.

Total Burden Hours: 2,229,349.

Total Annualized Capital/Startup Costs: $0.

Total Annual Costs (operating/maintaining systems or purchasing services): $0.

Description: The OSHA No. 200, Log and Summary; the OSHA 101, Supplementary Record; and the recordkeeping guidelines provide employers with the means and specific instructions needed to maintain records of work-related injuries and illnesses. The data are needed by OSHA to carry out intervention and enforcement activities in order to guarantee workers safe and healthful workplaces. The data are also needed by the Bureau of Labor Statistics (BLS) to produce national statistics on occupational injuries and illnesses. Response to this collection of information is mandatory as specified in 29 CFR Part 1904.

Type of Review: Extension of a currently approved collection.

Agency: Occupational Safety and Health Administration (OSHA).

Title: OSHA Data Collection System.

OMB Number: 1218-0209.

Affected Public: Business or other for-profit; farms; State, Local, or Tribal Government.

Frequency: Annually.

Number of Respondents: 81,425.

Number of Annual Responses: 81,425.

Estimated Time Per Response: 30 minutes.

Total Burden Hours: 39,113.

Total Annualized Capital/Startup Costs: $0.

Total Annual Cost (operating/maintaining systems or purchasing services): $0.

Description: The year 2001 OSHA Data Collection will request CY 2000 injury and illness data from 81,425 establishments throughout the Nation. The data are needed by OSHA to carry out intervention and enforcement activities in order to guarantee workers a safe and healthful workplace. The data will also be used for measurement purposes in compliance with the Government Performance and Results Act of 1995 and multiple research purposes. The data collected are already maintained by employers as required by 29 CFR Part 1904.

Type of Review: Reinstatement of a previously approved collection.

Agency: Occupational Safety and Health Administration (OSHA).

Title: Modification of Aerial Lifts in Construction.

OMB Number: 1218-0216.

Affected Public: Business or other for-profit; Federal Government; State, Local, or Tribal Government.

Frequency: On occasion.

Number of Respondents: 60.

Number of Annual Responses: 60.

Estimated Time Per Response: 3 minutes.

Total Burden Hours: 3.

Total Annualized Capital/Startup Costs: $0.

Total Annual Cost (operating/maintaining systems or purchasing services): $0.

Description: 29 CFR 1926.453 requires employers to obtain written certification of any field modifications made to aerial lifts. Such certification must be prepared in writing by either the manufacturer of the aerial lift or a nationally recognized testing laboratory. The certification is to attest to the safety of the lift after modification.

Ira L. Mills,
Departmental Clearance Officer.

[FR Doc. 00-29370 Filed 11-15-00; 8:45 am]

BILLING CODE 4510-26-M